DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by May 28, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Rural Energy Savings Program.

OMB Control Number: 0572-0151.

Summary of Collection: The Rural Utilities Service (RUS), a Rural Development agency of the United States Department of Agriculture (USDA), provides RESP loans to eligible entities that agree to, in turn, make loans to qualified consumers for energy efficiency measures, including cost effective energy storage and renewable energy systems. These loans are made available under the authority of section 6407 of the Farm Security and Rural Investment Act of 2002, as amended, (section 6407). Eligible energy efficiency measures must be for or at a property or properties served by a RESP borrower, using commercially available technologies that would allow qualified consumers to decrease their energy use or costs through cost-effective energy efficiency investments. Loans made by RESP borrowers under this program are repaid through a recurring bill to the qualified consumer for the property or properties for, or at which, the energy efficiencies measures are or will be implemented.

Since its inception in 2016, the Rural Energy Savings Program (RESP or the Program) has evolved. New and clarifying authorities have been added to the program including changes made by the Agriculture Improvement Act of 2018 (2018 Farm Bill) (Pub. L. 115-334) which reauthorized the implementation of the RESP. Title VI, subtitle C, section 6303 of the Agriculture Improvement Act of 2018 introduced several amendments to section 6407 of the Farm Security and Rural Investment Act of 2002 (7 U.S.C. 8107a). The amendments include an increase in the maximum amount RUS eligible borrowers may charge to their qualified consumers, streamlining the accounting requirements, and the use of a recurring bill to the qualified consumer as a repayment mechanism for the RUS borrowers. The governing regulation for this program is 7 CFR 1719.

Need and Use of the Information: This collection receives information only from those RUS electric borrowers or eligible entities who submit letters of intent to apply for the Rural Energy Savings Program and those who subsequently are invited to submit applications. Several qualified entities will be invited to submit applications for a RESP loan after notifying the agency of their interest. The information required from the respondents is limited to essential criteria for screening to determine if proposed activities and investment are consistent with the purpose of the statute, determining eligibility, evaluating the likelihood of fulfilling requirements of a complete application, and to make a preliminary assessment of the feasibility of the business model contemplated by the applicant in order to protect the interests of the Government when making the loan. The information collected is consistent with requirements necessary to determine acceptable qualifications and evaluate applications. Some of the relending projects outlined in applications may vary substantially in complexity and administration and so, the individual respondent's burden may vary as well. The information submitted is used by RUS to determine public interest in the program, determine eligibility of applicants for loans under RESP, and to ensure borrowers use the funds for purposes consistent with goals of RESP.

Description of Respondents: Not-for-profit institutions.

Number of Respondents: 9.

Frequency of Responses: Reporting: On occasion.

Total Burden Hours: 849.

Rural Utilities Service

Title: OneRD Guaranteed Loan Program.

OMB Control Number: 0572-0155.

Summary of Collection: Rural Development is implementing a new consolidated guaranteed loan program. This rule created a new guaranteed loan program that combined four existing guaranteed loan programs under one regulatory platform. These four programs, described below, are: (1) the Community Facilities Program, (2) the Water and Waste Disposal Program, (3) the Business and Industry Program, and (4) the Rural Energy for America Program (formerly known as the Renewable Energy Systems and Energy Efficiency Improvements Program under Title IX, Section 9007 of the Food, Conservation, and Energy Act of 2008 (2008 Farm Bill).

Community Facilities Program. The Rural Housing Service (RHS) is authorized by Section 306 of the Consolidated Farm and Rural Development Act (7 U.S.C. 1926) to make loans to public agencies, nonprofit corporations, and Indian tribes for the development of essential community facilities primarily serving rural residents. RHS has been making guaranteed loans through its Community Programs, which was authorized by Congress in 1990. Community Program guaranteed loans are used to finance many types of projects varying in size and complexity from large general hospitals to small firefighting equipment loans. The guaranteed loan program encourages lender participation and provides specific guidance in the processing and servicing of guaranteed Community Facility loans.

Water and Waste Disposal Program. The Rural Utilities Service is authorized by Section 306 of the Consolidated Farm and Rural Development Act (7 U.S.C. 1926) to make loans to public agencies, nonprofit corporations, and Indian tribes for the development of water and waste disposal facilities primarily serving rural residents. Water and Waste Disposal Programs (WW), which has been in existence for approximately 60 years, was authorized with the Appropriations Act of 1990, when Congress appropriated funds, to implement the Water and Waste Disposal guaranteed loan program. Water and waste disposal guaranteed loans are used to finance many types of projects varying in size and complexity. The guaranteed loan program encourages lender participation and provides specific guidance in the processing and servicing of guaranteed WW loans.

Business and Industry Program. The Business and Industry (B&I) Guaranteed Loan Program was legislated in 1972 under Section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits.

Rural Energy for America Program. The Rural Energy for America Program is authorized under the 2008 Farm Bill to make loan guarantees and grants to farmers, ranchers, and rural small businesses to purchase renewable energy systems and make energy efficiency improvements. The program is designed to help farmers, ranchers, and rural small business reduce energy cost and consumption, develop new income streams, and help meet the nation's critical energy needs.

In an effort to reduce paperwork and make Rural Development forms more consistent with each other, thereby improving customer service, RD has revised the forms in this burden package to accommodate all four programs.

Need and Use of the Information: Lending entities who wish to participate in this program must submit an application and/or certain information to Rural Development. This information will be used to determine their eligibility for participation in this program.

Eligible lenders and their prospective borrowers who are seeking guaranteed loans will have to submit applications with specified information, certifications, and agreements to the State Office. This information will be used to determine borrower eligibility, to determine project eligibility and feasibility, and to ensure that borrowers operate on a sound basis and use funds for authorized purposes.

Description of Respondents: Business or other for-profit; Not-for-profit institutions.

Number of Respondents: 464.

Frequency of Responses: Reporting: Annually.

Total Burden Hours: 64,694.

Levi S. Harrell,
Departmental Information Collection Clearance Officer.

[FR Doc. 2024-08884 Filed 4-24-24; 8:45 am]

BILLING CODE 3410-15-P